INTERNATIONAL TRADE COMMISSION

[Investigation No. 337-TA-623]

In the Matter of Certain R-134a Coolant (Otherwise Known as 1,1,1,2-Tetrafluoroethane); Enforcement Proceeding; Order

The Commission instituted this investigation on December 31, 2007, based on a complaint filed by INEOS Fluor Holdings Ltd., INEOS Fluor Ltd., and INEOS Fluor Americas L.L.C. (“INEOS”). The complaint alleged violations of section 337 of the Tariff Act of 1930 (19 U.S.C. 1337) in the importation into the United States, the sale for importation, and the sale within the United States after importation of certain R-134a coolant (otherwise known as 1,1,1,2-tetrafluoroethane) by reason of infringement of various claims of United States Patent No. 5,744,658. Complainants subsequently added allegations of infringement with regard to United States Patent Nos. 5,382,722 and 5,559,276. The complaint named two respondents, Sinochem Modern Environmental Protection Chemicals (Xi'an) Co., Ltd. and Sinochem Ningbo Ltd. Two additional respondents were subsequently added: Sinochem Environmental Protection Chemicals (Taicang) Co., Ltd. and Sinochem (U.S.A.) Inc.

On August 18, 2008, respondents moved for partial termination of the investigation based on the entry of a consent order specific to respondents' “old” process. On August 20, 2008, the administrative law judge (“ALJ”) issued an initial determination (“ID”) granting the motion and terminating the investigation with respect to the “old” process. On September 11, 2008, the Commission issued notice of its decision not to review the ID and issued the subject consent order.

On December 12, 2008, INEOS filed a complaint, requesting that the Commission institute a formal enforcement proceeding under Commission Rule 210.75 to investigate an alleged violation of the consent order relating to the “old” process. The complaint named a single respondent, Sinochem Environmental Protection Chemicals (Taicang) Co. Ltd. (“Sinochem (Taicang)”).

Having examined INEOS's complaint seeking a formal enforcement proceeding and having found that the complaint complies with the requirements for institution of formal enforcement proceedings in accordance with Commission Rule 210.75, the Commission has determined to institute a formal enforcement proceeding to determine whether Sinochem (Taicang) is in violation of the Commission's consent order in the above-captioned investigation, and what, if any, enforcement measures are appropriate.

Accordingly, the Commission hereby orders that:

1. Pursuant to Commission Rule 210.75(b), 19 CFR 210.75(b), a formal enforcement proceeding is instituted to determine whether Sinochem Environmental Protection Chemicals (Taicang) Co. Ltd. is in violation of the Commission's consent order issued in the above-captioned investigation, and what if any enforcement measures are appropriate.

2. For purposes of the enforcement proceeding so instituted, the following are parties to the proceeding:

Complainants:

INEOS Fluor Holdings Ltd., The Heath, Runcorn, Cheshire, WA74QX, United Kingdom;

INEOS Fluor Ltd., The Heath, Runcorn, Cheshire, WA74QX, United Kingdom;

INEOS Fluor Americas L.L.C., 4990 B IC1 Road, St. Gabriel, LA 70776.

Respondent:

Sinochem Environmental Protection Chemicals (Taicang) Co. Ltd., South Binjiang Road, Petrochemical Industrial Section, Taicang Port Development Zone, Taicang, Jiangsu 215433, China.

A Commission investigative attorney to be designated by the Director, Office of Unfair Import Investigations.

3. The formal enforcement proceeding is hereby certified to the chief ALJ, Chief Judge Paul J. Luckern, who shall designate a presiding ALJ for this proceeding for issuance of an enforcement initial determination (“EID”). The presiding ALJ is directed to set a target date for completion of these proceedings within forty-five (45) days of institution in accordance with 19 CFR 210.51(a).

4. The presiding ALJ, in his discretion, may conduct any proceedings he deems necessary, including issuing a protective order, holding hearings, taking evidence, and ordering discovery consistent with Commission rules to issue his EID. The EID will rule on the question of whether Sinochem (Taicang) has violated the September 11, 2008 consent order issued in the above-captioned investigation. All defenses not barred by claim preclusion may be raised in this proceeding. The presiding ALJ shall also recommend to the Commission what enforcement measures are appropriate if Sinochem (Taicang) is found to violate the Commission's consent order. The presiding ALJ, in his discretion, may also conduct any proceedings he deems necessary, including taking evidence and ordering discovery, to issue his recommendations on appropriate enforcement measures.

5. Petitions for review of the EID may be filed within fourteen (14) days of service of the EID. Responses to any petitions for review may be filed within seven (7) days of service of any petitions for review.

6. Notwithstanding Commission Rule 210.75(b)(3), the EID shall become the Commission's final determination sixty (60) days after service of the EID, unless the Commission orders review or changes the deadline for determining whether to review it.

7. The Secretary shall:

(a) Docket INEOS's complaint for a formal enforcement proceeding;

(b) Serve a copy of INEOS's “Complaint to Enforce Consent Order Pursuant to Commission Rule 210.75” on the proposed respondent and advise Sinochem (Taicang) of the provisions of Commission Rule 210.75 concerning responses to a request for a formal enforcement proceeding;

(c) Serve a copy of this order upon each party to the formal enforcement proceeding;

(d) Publish notice of this order in the Federal Register.

By Order of the Commission.
Issued: February 18, 2009.
Marilyn R. Abbott,
Secretary to the Commission.

[FR Doc. E9-3803 Filed 2-20-09; 8:45 am]

BILLING CODE 7020-02-P